NUCLEAR REGULATORY COMMISSION

[Docket No. 030-28641]

Notice of Consideration of Amendment Request for Department of the Air Force, Eglin Air Force Base, Florida, and Opportunity for Providing Comments and Requesting a Hearing

I. Introduction

The U.S. Nuclear Regulatory Commission (NRC) is considering issuance of a license amendment to Materials License 42-23539-01AF issued to the Department of the Air Force (the licensee), to authorize decommissioning of its Test Area C-74L at Eglin Air Force Base in Florida.

The licensee currently possesses radioactive material under a master materials license of broad scope. The licensee uses radioactive material for a variety of reasons. On May 24, 2002, the Air Force submitted a Decommissioning Plan (DP) to the NRC and requested approval to begin decommissioning of a site previously used by the Air Force for depleted uranium munitions testing between 1974-1978. The area is known as Test Area C-74L and is located at Eglin Air Force Base, Florida. The licensee previously conducted limited decommissioning at the site and desires to conduct additional decommissioning with the goal of free-releasing the property for unrestricted use.

The DP was submitted to the NRC by letter dated May 24, 2002. Supplemental information was submitted by letter dated November 1, 2002. An NRC administrative review, documented in a letter to the licensee dated November 25, 2002, found the DP acceptable to begin a technical review.

If the NRC approves the DP, the approval will be documented in an amendment to NRC License 42-23539-01AF. However, before approving the proposed amendment, the NRC will need to make the findings required by the Atomic Energy Act of 1954, as amended, and NRC's regulations. These findings will be documented in a Safety Evaluation Report and an Environmental Assessment.

II. Opportunity To Provide Comments

In accordance with 10 CFR 20.1405, the NRC is providing notice to individuals in the vicinity of the site that the NRC is in receipt of a DP, and will accept comments concerning this decommissioning proposal and its associated environmental impacts. Comments with respect to this action should be provided in writing within 30 days of this notice and addressed to D. Blair Spitzberg, Ph.D., Chief, Fuel Cycle and Decommissioning Branch, Division of Nuclear Materials Safety, Region IV, U.S. Nuclear Regulatory Commission, 611 Ryan Plaza Drive, Suite 400, Arlington, Texas, 76011-4005. Telephone: (817) 860-8191, fax number (817) 860-8188, e-mail: dbs@nrc.gov. Comments received after 30 days will be considered if practicable to do so, but only those comments received on or before the due date can be assured consideration.

III. Opportunity To Request a Hearing

NRC also provides notice that this is a proceeding on an application for an amendment of a license falling within the scope of Subpart L, “Informal Hearing Procedures for Adjudications in Materials and Operator License Proceedings,” of NRC's rules and practice for domestic licensing proceedings in 10 CFR Part 2. Whether or not a person has or intends to provide comments as set out in Section II above, pursuant to § 2.1205(a), any person (other than an applicant) whose interest may be affected by this proceeding may file a request for a hearing in accordance with § 2.1205(d). A request for a hearing must be filed within thirty (30) days of the date of publication of this Federal Register notice.

The request for a hearing must be filed with the Office of the Secretary either:

1. By delivery to Secretary, U.S. Nuclear Regulatory Commission, One White Flint North, 11555 Rockville Pike, Rockville, MD 20852-2738; between 7:45 a.m. and 4:15 p.m., Federal workdays; or

2. By mail, telegram, or facsimile (301-415-1101) addressed to the Secretary, U.S. Nuclear Regulatory Commission, Washington, DC 20555-0001. Attention: Rulemakings and Adjudications Staff.

In accordance with 10 CFR § 2.1205(f), each request for a hearing must also be served, by delivering it personally or by mail, to:

1. The applicant; Lt. Col. Kali K. Mather, Chief, AFMOA/SGZR, 110 Luke Avenue, Room 405, Bolling Air Force Base, Department of the Air Force, Washington, D.C. 20332-7050; and

2. The NRC staff; by delivery to the General Counsel, U.S. Nuclear Regulatory Commission, One White Flint North, 11555 Rockville Pike, Rockville, MD 20852-2738, between 7:45 a.m. and 4:15 p.m., Federal workdays, or by mail, addressed to General Counsel, U.S. Nuclear Regulatory Commission, Washington, DC 20555-0001.

In addition to meeting other applicable requirements of 10 CFR Part 2 of the NRC's regulations, a request for a hearing filed by a person other than an applicant must describe in detail:

1. The interest of the requestor in the proceeding;

2. How that interest may be affected by the results of the proceeding, including the reasons why the requestor should be permitted a hearing, with particular reference to the factors set out in § 2.1205(h);

3. The requester's areas of concern about the licensing activity that is the subject matter of the proceeding; and

4. The circumstances establishing that the request for a hearing is timely in accordance with § 2.1205(d).

IV. Public Meeting

There are no public meetings scheduled for this proceeding.

V. Further Information

The application for the license amendment and supporting documentation are available for inspection at NRC's Public Electronic Reading Room at http://www.nrc.gov/NRC/ADAMS/index.html. The DP can be found in ADAMS at Accession Numbers ML021970666 and ML021970654, while supporting documentation can be found at ML023370482. The acceptance letter can be found at ML023290265. Any questions with respect to this action should be referred to D. Blair Spitzberg, Ph.D., Chief, Fuel Cycle and Decommissioning Branch, Division of Nuclear Materials Safety, Region IV, U.S. Nuclear Regulatory Commission, 611 Ryan Plaza Drive, Suite 400, Arlington, Texas, 76011-4005. Telephone: (817) 860-8191, fax number (817) 860-8188.

Dated at Arlington, Texas, this 27th day of January 2003.
For the Nuclear Regulatory Commission.
D. Blair Spitzberg,
Chief, Fuel Cycle Decommissioning Branch, Division of Nuclear Materials Safety, Region IV.

[FR Doc. 03-2414 Filed 1-31-03; 8:45 am]

BILLING CODE 7590-01-P